DEPARTMENT OF HEALTH AND HUMAN SERVICES

National Institutes of Health

National Institute on Aging; Amended Notice of Meeting

Notice is hereby given of a change in the meeting of the National Advisory Council on Aging, May 13, 2025, 02:00 p.m. to May 14, 2025, 05:00 p.m., National Institutes of Health, Natcher Building, 45 Center Drive, Bethesda, MD 20892 which was published in the Federal Register on December 06, 2025, 89 FR 99887.

The following FRN is being amended to change the meeting to virtual and the times from 2 p.m.-5 p.m. to 1 p.m.-3:00 p.m. on 5/13/2025; from 8 a.m.-12:30 p.m. to 10:00 a.m.-1:00 p.m. to on 5/14/2025.

The meeting is partially Closed to the public.

Dated: April 15, 2025.
Bruce A. George,
Program Analyst, Office of Federal Advisory Committee Policy.

[FR Doc. 2025-06752 Filed 4-17-25; 8:45 am]

BILLING CODE 4140-01-P